DEPARTMENT OF COMMERCE

International Trade Administration

(A-588-852, A-580-841, C-580-842)

Revocation of Antidumping and Countervailing Duty Orders: Structural Steel Beams From Japan and South Korea

AGENCY: Import Administration, International Trade Administration, Department of Commerce.

SUMMARY: On May 2, 2005, the Department of Commerce (“the Department”) initiated its sunset reviews of the antidumping duty (“AD”) orders on structural steel beams (“beams”) from Japan and South Korea (“Korea”), and the countervailing duty (“CVD”) order on beams from Korea. See Initiation of Five-year (“Sunset”) Reviews, 70 FR 22632 (May 2, 2005). Pursuant to section 751(c) of the Tariff Act of 1930, as amended (“the Act”), the International Trade Commission (“the ITC”), in its sunset reviews, determined that revocation of the AD orders on beams from Japan and Korea and the CVD order on beams from Korea would not be likely to lead to continuation or recurrence of material injury to an industry in the United States within a reasonably foreseeable time. See Structural Steel Beams from Japan and Korea, 71 FR 13431 (March 15, 2006). Therefore, pursuant to section 751(d)(2) of the Act and 19 CFR 351.222(i)(1)(iii), the Department is revoking the AD orders on beams from Japan and Korea and the CVD order on beams from Korea.

EFFECTIVE DATE: June 19, 2005 - Japan; August 14, 2005 - Korea (CVD); August 18, 2005 - Korea (AD).

FOR FURTHER INFORMATION CONTACT: Robert James or Dana Mermelstein (AD orders), Tipten Troidl or Brandon Farlander (CVD order), AD/CVD Operations, Import Administration, International Trade Administration, U.S. Department of Commerce, 14th Street and Constitution Avenue, NW, Washington, DC 20230; telephone: (202) 482-0649, (202) 482-1391, (202) 482 - 1767 or (202) 482-0182, respectively.

SUPPLEMENTARY INFORMATION:

Scope of the Orders

The products covered by these orders are doubly-symmetric shapes, whether hot-or cold-rolled, drawn, extruded, formed or finished, having at least one dimension of at least 80 mm (3.2 inches or more), whether of carbon or alloy (other than stainless) steel, and whether or not drilled, punched, notched, painted, coated, or clad. These products include, but are not limited to, wide-flange beams (W shapes), bearing piles (HP shapes), standard beams (S or I shapes), and M-shapes.

All products that meet the physical and metallurgical descriptions provided above are within the scope of these orders unless otherwise excluded. The following products are outside and/or specifically excluded from the scope of these orders: Structural steel beams greater than 400 pounds per linear foot or with a web or section height (also known as depth) over 40 inches.

The products subject to these orders are currently classifiable in the Harmonized Tariff Schedule of the United States (“HTSUS”) at subheadings: 7216.32.0000, 7216.33.0030, 7216.33.0060, 7216.33.0090, 7216.50.0000, 7216.61.0000, 7216.69.0000, 7216.91.0000,¹ 7216.99.0000,² 7228.70.3040,³ 7228.70.6000. Although the HTSUS subheadings are provided for convenience and customs purposes, the written description of the merchandise in these orders is dispositive.

¹ HTSUS subheading 7216.91.0000 was no longer in use as of 2004, and was replaced by 7216.91.0010 and 7216.91.0090 in that year.

² HTSUS subheading 7216.99.0000 was no longer in use as of 2004, and was replaced by 7216.99.0010 and 7216.99.0090 in that year.

³ HTSUS subheading 7228.70.3040 was no longer in use as of 2005. What was previously covered by that number is covered within 7228.70.3010 and 7228.70.3041 starting in 2005.

Background

On June 19, August 18, and August 14, 2000, the Department issued the AD orders on beams from Japan and Korea and the CVD order on beams from Korea, respectively. See Structural Steel Beams from Japan: Notice of Antidumping Duty Order, 65 FR 37960 (June 19, 2000), Structural Steel Beams From South Korea: Notice of Antidumping Duty Order, 65 FR 50502 (August 18, 2000), and Notice of Countervailing Duty Order: Structural Steel Beams from the Republic of Korea, 65 FR 49542 (August 14, 2000). On May 2, 2005, the Department initiated, and the ITC instituted, sunset reviews of the AD and CVD orders on beams from Japan and Korea. See Initiation of Five-year (“Sunset”) Reviews, 70 FR 22632 (May 2, 2005). As a result of its CVD sunset review, the Department found that revocation of the CVD order would be likely to lead to continuation or recurrence of a countervailable subsidy, and notified the ITC of the level of subsidy likely to prevail were the order to be revoked. See Final Results of Expedited Sunset Review of the Countervailing Duty Order: Structural Steel Beams from South Korea, 70 FR 53167 (September 7, 2005). As a result of its AD sunset reviews, the Department found that revocation of the AD orders would be likely to lead to continuation or recurrence of dumping, and notified the ITC of the magnitude of the margin likely to prevail were the orders to be revoked. See Structural Steel Beams from Japan and South Korea; Final Results of Expedited Sunset Reviews of Antidumping Duty Orders, 70 FR 53633 (September 9, 2005). On March 15, 2006, the ITC determined, pursuant to section 751(c) of the Act, that revocation of the AD orders on beams from Japan and Korea, and the CVD order on beams from Korea would not be likely to lead to continuation or recurrence of material injury to an industry in the United States within a reasonably foreseeable time. See Structural Steel Beams from Japan and Korea, 71 FR 13431 (March 15, 2006) and USITC Publication 3840 (March 2006), entitled Structural Steel Beams from Japan and Korea (Inv. Nos. 701-TA-401 and 731-TA-853-854 (Review)).

Determination

As a result of the determination by the ITC that revocation of these AD and CVD orders is not likely to lead to continuation or recurrence of material injury to an industry in the United States, the Department, pursuant to section 751(d) of the Act, is revoking the AD orders on beams from Japan and Korea and the CVD order on beams from Korea. Pursuant to section 751(d)(2) of the Act and 19 CFR 351.222(i)(2)(i), the effective date of revocation is June 19, 2005, August 18, 2005, and August 14, 2005 (i.e., the fifth anniversary of the date of publication in the Federal Register of the notices of the AD order on Japan, the AD order on Korea, and the CVD order on Korea, respectively). The Department will notify U.S. Customs and Border Protection to discontinue suspension of liquidation and collection of cash deposits on entries of the subject merchandise entered or withdrawn from warehouse on or after June 19, 2005, August 18, 2005, and August 14, 2005, the effective dates of revocation of the AD orders and the CVD order. The Department will complete any pending administrative reviews of these orders and will conduct administrative reviews of subject merchandise entered prior to the effective date of revocation in response to appropriately filed requests for review.

These five-year sunset reviews and notice are in accordance with section 751(d)(2) and published pursuant to section 777(i)(1) of the Act.

Dated: March 22, 2006
Stephen J. Claeys.
Acting Assistant Secretary for Import Administration.

[FR Doc. E6-4481 Filed 3-27-06; 8:45 am]

BILLING CODE 3510-DS-S